DEPARTMENT OF THE INTERIOR

Fish and Wildlife Service

50 CFR Part 17

RIN 1018-AV19

Endangered and Threatened Wildlife and Plants; 12-Month Petition Finding and Proposed Rule To List the Polar Bear (Ursus maritimus) as Threatened Throughout Its Range

AGENCY: Fish and Wildlife Service, Interior.

ACTION: Extension of comment period; notice of availability of new information.

SUMMARY: We, the U.S. Fish and Wildlife Service (Service), announce the extension of the public comment period on nine new United States Geological Survey (USGS) reports produced for the Service to provide current data and modeling results relevant to the final determination of whether the polar bear (Ursus maritimus) qualifies for listing under the Endangered Species Act of 1973, as amended (Act). We intend to take these reports into consideration as we make our final listing determination on the polar bear, and are extending the reopened public comment period on the January 9, 2007, proposed rule to list the polar bear as threatened throughout its range under the Act (72 FR 1064) for an additional 15 days to allow interested parties to comment on the USGS reports. We are limited in how long we can extend the public comment period because of the statutory deadline, which requires a final listing determination within one year of publication of the proposed rule, unless an extension of up to six months is granted due to substantial disagreement regarding the sufficiency or accuracy of the available data relevant to the determination.

Please note that comments previously submitted should not be resubmitted. This comment period is open only for comments on the nine USGS reports listed below. Comments submitted during the prior comment period have been incorporated into the public record and will be fully considered during preparation of our final determination.

DATES: We will accept public comments until October 22, 2007.

ADDRESSES: You may submit comments and materials to us by any one of the following methods:

(1) You may mail or hand-deliver written comments and information to the Supervisor, U.S. Fish and Wildlife Service, Marine Mammals Management Office, 1011 East Tudor Road, Anchorage, AK 99503.

(2) You may send comments by electronic mail (e-mail) to: Polar_Bear_Finding@fws.gov. For instructions on how to file comments electronically, see the “Public Comments Solicited” section below. In the event that our Internet connection is not functional, please submit your comments by one of the alternate methods listed in this section.

(3) You may submit your comments via the Federal eRulemaking Portal at http://www.regulations.gov. Follow the instructions for submitting comments.

For information on obtaining copies of the nine USGS reports, see the “Obtaining Copies of the Nine USGS reports” section below.

FOR FURTHER INFORMATION CONTACT: Rosa Meehan, Marine Mammals Management Office (see ADDRESSES) (telephone 907-786-3800). Persons who use a telecommunications device for the deaf (TDD) may call the Federal Information Relay Service (FIRS) at 800-877-8339.

SUPPLEMENTARY INFORMATION: On January 9, 2007, the Service published a 12-month petition finding and proposed rule to list the polar bear (Ursus maritimus) as threatened throughout its range under the Act (72 FR 1064). The document announced a 3-month public comment period on the proposed rule, which closed on April 9, 2007. We also held three public hearings during the proposed rule's comment period, as announced in the February 15, 2007, Federal Register (72 FR 7381).

On September 7, 2007, the Service received nine reports prepared by the USGS that provide new data and modeling outputs relevant to the final determination of whether the polar bear qualifies for listing as threatened or endangered under the Act. These reports are:

(1) Polar Bear Population Status in the Northern Beaufort Sea by Stirling et al.

(2) Polar Bear Population Status in Southern Hudson Bay Canada by Obbard et al.

(3) Polar Bears in the Southern Beaufort Sea I: Survival and Breeding in Relation to Sea Ice Conditions, 2001-2006 by Regehr et al.

(4) Polar Bears in the Southern Beaufort Sea II: Demography and Population Growth in Relation to Sea Ice Conditions by Hunter et al.

(5) Polar Bears in the Southern Beaufort Sea III: Stature, Mass, and Cub Recruitment in Relationship to Time and Sea Ice Extent Between 1982 and 2006 by Rode et al.

(6) Uncertainty in Climate Model Predictions of Arctic Sea Ice Decline: An Evaluation Relevant to Polar Bears by DeWeaver.

(7) Predicting the Future Distribution of Polar Bear Habitat in the Polar Basin from Resource Selection Functions Applied to 21st Century General Circulation Model Projections of Sea Ice by Durner et al.

(8) Predicting Movements of Female Polar Bears between Summer Sea Ice Foraging Habitats and Terrestrial Denning Habitats of Alaska in the 21st Century: Proposed Methodology and Pilot Assessment by Bergen et al.

(9) Forecasting the Range-wide Status of Polar Bears at Selected Times in the 21st Century by Amstrup et al.

On September 20, 2007, we published a notice in the Federal Register announcing the availability of these nine reports and our intention to consider them in making our final listing determination (72 FR 53749). In that notice we also reopened the public comment period on the January 9, 2007, proposed rule to list the polar bear as threatened under the Act (72 FR 1064) for 15 days to provide the public the opportunity to submit comments or information on these reports. Because of the volume and complexity of the information in the reports, we are extending the public comment period for an additional 15 days. The comment period now closes on October 22, 2007. We are asking for public comments on these reports and a review of the extent to which they add to the knowledge base for making the final decision. In particular we are seeking information regarding whether the reports raise an issue of substantial disagreement among scientists knowledgeable about polar bears regarding the accuracy or sufficiency of the available data relevant to the listing determination.

Obtaining Copies of the Nine USGS Reports

You may obtain copies of any of the nine USGS reports:

• By mail from the U.S. Department of the Interior, United States Geological Survey, Office of Communication, 119 National Center, Reston, VA 20192;

• By calling USGS Public Affairs at (703) 648-4460;

• By visiting the USGS Web site at http://www.usgs.gov/newsroom/special/polar_bears/; or

• Via link to the USGS Web site from the Service's Web site: http://www.fws.gov/.

Copies of the reports are also available for public inspection, by appointment during normal business hours, at the U.S. Fish and Wildlife Service, Marine Mammals Management Office (see ADDRESSES).

Public Comments Solicited

Comments and information submitted during the initial comment period on the January 9, 2007 (72 FR 1064), proposed rule should not be resubmitted, as this comment period is open only for comments on the nine USGS reports listed above. Our final determination of whether the polar bear qualifies as threatened or endangered under the Act will take into consideration all comments and information we receive during both comment periods.

You may submit your comments and any materials concerning the above reports by any one of several methods (see ADDRESSES). If you use e-mail to submit your comments, please include “Attn: Polar Bear Finding” in your e-mail subject header, preferably with your name and return address in the body of your message.

Before including your address, phone number, e-mail address, or other personal identifying information in your comments, you should be aware that your entire comment—including your personal identifying information—may be made publicly available at any time. While you can ask us in your comment to withhold from public view your personal identifying information, we cannot guarantee that we will be able to do so.

Author

The primary author of this notice is staff of the U.S. Fish and Wildlife Service.

Authority: The authority for this action is the Endangered Species Act of 1973, as amended (16 U.S.C. 1531 et seq.).

Dated: September 28, 2007.
Kenneth Stansell,
Acting Director, U.S. Fish and Wildlife Service.

[FR Doc. 07-4946 Filed 10-2-07; 11:36 am]

BILLING CODE 4310-55-P